DEPARTMENT OF AGRICULTURE

Agricultural Marketing Service

7 CFR Part 51

[Doc. No. FV-00-303]

Peaches, Plums, and Nectarines; Grade Standards

AGENCY: Agricultural Marketing Service, USDA.

ACTION: Reopening and extension of the comment period.

SUMMARY: Notice is hereby given that the comment period on proposed changes to the United States Standards for Grades of Peaches, the United States Standards for Grades of Fresh Plums and Prunes, and the United States Standards for Grades of Nectarines is reopened and extended.

DATES: Comments must be received by March 7, 2003.

ADDRESSES: Interested persons are invited to submit written comments to the Standardization Section, Fresh Products Branch, Fruit and Vegetable Programs, Agricultural Marketing Service, U.S. Department of Agriculture, 1400 Independence Ave. SW., Room 2065 South Building, STOP 0240, Washington, DC 20250; Fax (202) 720-8871, E-mail FPB.DocketClerk@usda.gov. Comments should make reference to the date and page number of this issue of the Federal Register and will be made available for public inspection in the above office during regular business hours.

FOR FURTHER INFORMATION CONTACT: David L. Priester, at the above address or call (202) 720-2185; E-mail David.Priester@usda.gov.

SUPPLEMENTARY INFORMATION: A proposed rule was published in the Federal Register, September 25, 2002, (Vol 67, No. 186, Pages 60171—60184) requesting comments on the proposed revisions of the United States Standards for Grades of Peaches, the United States Standards for Grades of Fresh Plums and Prunes, and the United States Standards for Grades of Nectarines. The proposal would delete the “Unclassified” section, establish a 25-count minimum sample, revise standard pack and size requirements to reflect current marketing and packaging practices for all three standards, and develop en route or at destination tolerances for grades of peaches to make the standards more uniform and consistent with other tree fruit standards. The proposal would also make changes to the color requirements for grades of nectarines to reflect newer varieties being marketed, as well as current cultural and marketing practices. Also, a definition would be provided for damage and serious damage by discoloration, and additional definitions for damage and serious damage by growth cracks would be provided for grades of fresh plums and prunes. In addition, the proposed rule contains conforming and editorial changes. The comment period ended November 25, 2002.

A comment was received from two industry associations representing peach growers requesting additional time to review the proposed revisions. The associations stated they were not aware changes were being made to the standards. Therefore, they requested the comment period be extended to allow the associations an opportunity to meet with their members to discuss the proposal.

After reviewing the request, AMS is reopening and extending the comment period in order to allow sufficient time for interested persons, including the associations, to file comments.

Authority: 7 U.S.C. 1621-1627.

Dated: January 27, 2003.
A.J. Yates,
Administrator, Agricultural Marketing Service.

[FR Doc. 03-2250 Filed 1-30-03; 8:45 am]

BILLING CODE 3410-02-P